DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional State Committee (RSC), Regional Entity Trustee (RET), Members' Committee and Board of Directors as noted below. Their attendance is part of the Commission's ongoing outreach efforts.

The meetings will be held at the Hyatt Regency Denver, 650 15th Street, Denver, Colorado 80202. The phone number is (888) 421-1442. All meetings are Mountain Time.

SPP RET

July 24, 2017 (8:00 a.m.-3:00 p.m.)

SPP RSC

July 24, 2017 (1:00 p.m.-5:00 p.m.)

SPP Members/Board of Directors

July 25, 2017 (8:00 a.m.-3:00 p.m.)

The discussions may address matters at issue in the following proceedings:

Docket No. ER15-2028, Southwest Power Pool, Inc.

Docket No. ER15-2115, Southwest Power Pool, Inc.

Docket No. ER15-2324, Southwest Power Pool, Inc.

Docket No. EL16-91, Southwest Power Pool, Inc.

Docket No. EL16-110, Southwest Power Pool, Inc.

Docket No. ER16-204, Southwest Power Pool, Inc.

Docket No. ER16-1286, Southwest Power Pool, Inc.

Docket No. ER16-1341, Southwest Power Pool, Inc.

Docket No. ER16-1546, Southwest Power Pool, Inc.

Docket No. ER16-2522, Southwest Power Pool, Inc.

Docket No. ER16-2523, Southwest Power Pool, Inc.

Docket No. EL17-11, Alabama Power Co.

Docket No. EL17-21, Kansas Electric Co.

Docket No. EL17-69, Buffalo Dunes Wind Project

Docket No. ER17-264, Southwest Power Pool, Inc.

Docket No. ER17-426, Southwest Power Pool, Inc.

Docket No. ER17-428, Southwest Power Pool, Inc.

Docket No. ER17-772, Southwest Power Pool, Inc.

Docket No. ER17-889, Southwest Power Pool, Inc.

Docket No. ER17-1092, Southwest Power Pool, Inc.

Docket No. ER17-1098, Southwest Power Pool, Inc.

Docket No. ER17-1110, Southwest Power Pool, Inc.

Docket No. ER17-1319, Southwest Power Pool, Inc.

Docket No. ER17-1371, Southwest Power Pool, Inc.

Docket No. ER17-1379, Southwest Power Pool, Inc.

Docket No. ER17-1508, Southwest Power Pool, Inc.

Docket No. ER17-1482, Southwest Power Pool, Inc.

Docket No. ER17-1575, Southwest Power Pool, Inc.

Docket No. ER17-1610, Southwest Power Pool, Inc.

Docket No. ER17-1643, Southwest Power Pool, Inc.

Docket No. ER17-1694, Southwest Power Pool, Inc.

Docket No. ER17-1733, Southwest Power Pool, Inc.

Docket No. ER17-1759, Southwest Power Pool, Inc.

Docket No. ER17-1795, Southwest Power Pool, Inc.

Docket No. ER17-1803, Southwest Power Pool, Inc.

Docket No. ER17-1804, Southwest Power Pool, Inc.

Docket No. ER17-1806, Southwest Power Pool, Inc.

Docket No. ER17-1809, Southwest Power Pool, Inc.

Docket No. ER17-1811, Southwest Power Pool, Inc.

Docket No. ER17-1813, Southwest Power Pool, Inc.

Docket No. ER17-1814, Southwest Power Pool, Inc.

Docket No. ER17-1815, Southwest Power Pool, Inc.

Docket No. ER17-1897, Southwest Power Pool, Inc.

Docket No. ER17-1945, Southwest Power Pool, Inc.

Docket No. ER17-2027, Southwest Power Pool, Inc.

Docket No. ER17-2032, Southwest Power Pool, Inc.

Docket No. ER17-2038, Southwest Power Pool, Inc.

These meetings are open to the public.

For more information, contact Patrick Clarey, Office of Energy Market Regulation, Federal Energy Regulatory Commission at (317) 249-5937 or patrick.clarey@ferc.gov.

Dated: July 14, 2017.
Nathaniel J. Davis, Sr.,
Deputy Secretary.

[FR Doc. 2017-15335 Filed 7-20-17; 8:45 am]

BILLING CODE 6717-01-P